FEDERAL ELECTION COMMISSION

[Notice 2019-18]

Filing Dates for the California Special Election in the 25th Congressional District

AGENCY: Federal Election Commission.

ACTION: Notice of filing dates for special election.

SUMMARY: California has scheduled a Special General Election on March 3, 2020, to fill the U.S. House of Representatives seat in the 25th Congressional District vacated by Representative Katie Hill. Under California law, a majority winner in a special election is declared elected. Should no candidate achieve a majority vote, a Special Runoff Election will be held on May 12, 2020, between the top two vote-getters.

Political committees participating in the California special elections are required to file pre- and post-election reports. Filing deadlines for these reports are affected by whether one or two elections are held.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in both the California Special General and Special Runoff Elections shall file a 12-day Pre-General Report on February 20, 2020; a 12-day Pre-Runoff Report on April 30, 2020; and a 30-day Post-Runoff Report on June 11, 2020. (See charts below for the closing date for each report.)

If both elections are held, all principal campaign committees of candidates who participate only in the California Special General Election shall file a 12-day Pre-General Report on February 20, 2020. (See charts below for the closing date for each report.)

If only one election is held, all principal campaign committees of candidates in the Special General Election shall file a 12-day Pre-General Report on February 20, 2020; and a 30-day Post-General Report on April 2, 2020. (See charts below for the closing date for each report.)

Unauthorized Committees (PACs and Party Committees)

Political committees not filing monthly in 2020 are subject to special election reporting if they make previously undisclosed contributions or expenditures in connection with the California Special General Election and/or Special Runoff Election by the close of books for the applicable report(s). (See charts below for the closing date for each report.)

Committees filing monthly that make contributions or expenditures in connection with the California Special General or Special Runoff Election will continue to file according to the monthly reporting schedule.

Additional disclosure information in connection with the California Special Elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of the lobbyist bundling disclosure threshold during the special election reporting periods. (See charts below for closing date of each period.) 11 CFR 104.22(a)(5)(v), (b), 110.17(e)(2), (f).

The lobbyist bundling disclosure threshold for calendar year 2019 is $18,700. This threshold amount may change in 2020 based upon the annual cost of living adjustment (COLA). As soon as the adjusted threshold amount is available, the Commission will publish it in the Federal Register and post it on its website. 11 CFR 104.22(g) and 110.17(e)(2). For more information on these requirements, see Federal Register Notice 2009-03, 74 FR 7285 (February 17, 2009).

Calendar of Reporting Dates for California Special Election
Report | Close of books ¹ | Reg./cert. & overnight mailing deadline | Filing deadline
If Only the Special General (03/03/2020) is Held, Committees Involved Must File
Pre-General | 02/12/2020 | ² 02/17/2020 | 02/20/2020
Post-General | 03/23/2020 | 04/02/2020 | 04/02/2020
April Quarterly | 03/31/2020 | 04/15/2020 | 04/15/2020
If Two Elections are Held, Committees Involved in Only the Special General (03/03/2020) Must File
Pre-General | 02/12/2020 | ² 02/17/2020 | 02/20/2020
April Quarterly | 03/31/2020 | 04/15/2020 | 04/15/2020
Committees Involved in Both the Special General (03/03/2020) and Special Runoff (05/12/2020) Must File
Pre-General | 02/12/2020 | ² 02/17/2020 | 02/20/2020
April Quarterly | 03/31/2020 | 04/15/2020 | 04/15/2020
Pre-Runoff | 04/22/2020 | 04/27/2020 | 04/30/2020
Post-Runoff | 06/01/2020 | 06/11/2020 | 06/11/2020
July Quarterly | 06/30/2020 | 07/15/2020 | 07/15/2020
Committees Involved in Only the Special Runoff (05/12/2020) Must File
Pre-Runoff | 04/22/2020 | 04/27/2020 | 04/30/2020
Post-Runoff | 06/01/2020 | 06/11/2020 | 06/11/2020
July Quarterly | 06/30/2020 | 07/15/2020 | 07/15/2020
¹ The reporting period always begins the day after the closing date of the last report filed. If the committee is new and has not previously filed a report, the first report must cover all activity that occurred before the committee registered as a political committee up through the close of books for the first report due.
² Notice that the registered/certified & overnight mailing deadline falls on a weekend or federal holiday. The report should be postmarked before that date.

Dated: November 20, 2019.
On behalf of the Commission.
Ellen L. Weintraub,
Chair, Federal Election Commission.

[FR Doc. 2019-25599 Filed 11-25-19; 8:45 am]

BILLING CODE 6715-01-P